DEPARTMENT OF HOMELAND SECURITY

Federal Emergency Management Agency

[Docket ID FEMA-2017-0002]

Final Flood Hazard Determinations

AGENCY: Federal Emergency Management Agency, DHS.

ACTION: Notice.

SUMMARY: Flood hazard determinations, which may include additions or modifications of Base Flood Elevations (BFEs), base flood depths, Special Flood Hazard Area (SFHA) boundaries or zone designations, or regulatory floodways on the Flood Insurance Rate Maps (FIRMs) and where applicable, in the supporting Flood Insurance Study (FIS) reports have been made final for the communities listed in the table below.

The FIRM and FIS report are the basis of the floodplain management measures that a community is required either to adopt or to show evidence of having in effect in order to qualify or remain qualified for participation in the Federal Emergency Management Agency's (FEMA's) National Flood Insurance Program (NFIP). In addition, the FIRM and FIS report are used by insurance agents and others to calculate appropriate flood insurance premium rates for buildings and the contents of those buildings.

DATES: The date of April 18, 2018 has been established for the FIRM and, where applicable, the supporting FIS report showing the new or modified flood hazard information for each community.

ADDRESSES: The FIRM, and if applicable, the FIS report containing the final flood hazard information for each community is available for inspection at the respective Community Map Repository address listed in the tables below and will be available online through the FEMA Map Service Center at https://msc.fema.gov by the date indicated above.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Map Information eXchange (FMIX) online at https://www.floodmaps.fema.gov/fhm/fmx_main.html.

SUPPLEMENTARY INFORMATION: The Federal Emergency Management Agency (FEMA) makes the final determinations listed below for the new or modified flood hazard information for each community listed. Notification of these changes has been published in newspapers of local circulation and 90 days have elapsed since that publication. The Deputy Associate Administrator for Insurance and Mitigation has resolved any appeals resulting from this notification.

This final notice is issued in accordance with section 110 of the Flood Disaster Protection Act of 1973, 42 U.S.C. 4104, and 44 CFR part 67. FEMA has developed criteria for floodplain management in floodprone areas in accordance with 44 CFR part 60.

Interested lessees and owners of real property are encouraged to review the new or revised FIRM and FIS report available at the address cited below for each community or online through the FEMA Map Service Center at https://msc.fema.gov.

The flood hazard determinations are made final in the watersheds and/or communities listed in the table below.

(Catalog of Federal Domestic Assistance No. 97.022, “Flood Insurance.”)

Dated: November 29, 2017.
Roy E. Wright,
Deputy Associate Administrator for Insurance and Mitigation, Department of Homeland Security, Federal Emergency Management Agency.

Community | Community map repository address
Arapahoe County, Colorado and Incorporated Areas
Docket No.: FEMA-B-1638
City of Littleton | Public Works Department, 2255 West Berry Avenue, Littleton, CO 80120.
Town of Columbine Valley | Town Hall, 2 Middlefield Road, Columbine Valley, CO 80123.
Unincorporated Areas of Arapahoe County | Arapahoe County Public Works and Development Department, 6924 South Lima Street, Centennial, CO 80112.
City and County of Denver, Colorado
Docket No.: FEMA-B-1638
City and County of Denver | Public Works Department, 201 West Colfax Avenue, Department 507, Denver, CO 80202.
Dixie County, Florida and Incorporated Areas
Docket No.: FEMA-B-1651
Town of Cross City | Town Hall, 99 Northeast 210th Avenue, Cross City, FL 32628.
Unincorporated Areas of Dixie County | Dixie County Building and Zoning Department, 387 Southeast 22nd Avenue, Cross City, FL 32628.
Saline County, Kansas and Incorporated Areas
Docket No.: FEMA-B-1670
City of Assaria | City Hall, 315 East Main Street, Assaria, KS 67416.
City of Brookville | City Office, 301 North Perry Street, Brookville, KS 67425.
City of Gypsum | City Office, 521 Maple Street, Gypsum, KS 67448.
City of New Cambria | City Hall, 103 South Center Street, New Cambria, KS 67470.
City of Salina | City of Salina Planning and Zoning Department, 300 West Ash Street, Salina, KS 67401.
City of Smolan | Community Center, 320 3rd Street, Smolan, KS 67456.
Unincorporated Areas of Saline County | Saline County Planning and Zoning Department, 300 West Ash Street, Salina, KS 67401.
Lyon County, Kentucky and Incorporated Areas
Docket No.: FEMA-B-1652
City of Eddyville | City Hall, 153 West Main Street, Eddyville, KY 42038.
City of Kuttawa | City Hall, 82 Cedar Street, Kuttawa, KY 42055.
Unincorporated Areas of Lyon County | Lyon County Courthouse, 500 West Dale Avenue, Eddyville, KY 42038.
Camden County, Missouri and Incorporated Areas
Docket No.: FEMA-B-1664
City of Camdenton | City Hall, 437 West US Highway 54, Camdenton, MO 65020.
City of Linn Creek | Camden County Courthouse, 1 Court Circle, Suite 15, Camdenton, MO 65020.
Unincorporated Areas of Camden County | Camden County Courthouse, 1 Court Circle, Suite 15, Camdenton, MO 65020.
Miller County, Missouri and Incorporated Areas
Docket No.: FEMA-B-1664
Unincorporated Areas of Miller County | Miller County Courthouse, 2001 Highway 52, Tuscumbia, MO 65082.
Morgan County, Missouri and Incorporated Areas
Docket No.: FEMA-B-1664
Town of Gravois Mills | City Office, 154 Highway 5, Gravois Mills, MO 65037.
Unincorporated Areas of Morgan County | Morgan County Courthouse, 100 East Newton, Versailles, MO 65084.

[FR Doc. 2017-26810 Filed 12-12-17; 8:45 am]

BILLING CODE 9110-12-P